DEPARTMENT OF TRANSPORTATION

Federal Aviation Administration

14 CFR Part 39

[Docket No. FAA-2008-1088; Directorate Identifier 2008-NE-15-AD]

RIN 2120-AA64

Airworthiness Directives; Dowty Propellers Propellers

Correction

In proposed rule document 2013-30882, appearing on pages 78290-78292, in the issue of Thursday, December 26, 2013, make the following correction:

On page 78290, in the first column, the subject heading is corrected to read as set forth above.

[FR Doc. C1-2013-30882 Filed 1-9-14; 8:45 am]

BILLING CODE 1505-01-D